Proclamation 8577 of October 1, 2010

Fire Prevention Week, 2010

By the President of the United States of America

A Proclamation

During Fire Prevention Week, we reaffirm the importance of fire safety and awareness, and we pay tribute to our firefighters, volunteers, and first responders who put themselves in harm’s way to protect our lives, homes, and communities every day.

Each of us can take precautions in our homes to safeguard our loved ones from the hazards of fire. Smoke alarms are vital detection devices, and properly installing and maintaining them in the home can help keep our families safe. Residential sprinkler systems can give individuals extra time to evacuate a home safely in case of an emergency as well. This year’s theme, “Smoke Alarms: A sound you can live with,” encourages all Americans to test alarms at least once a month, and to check their batteries and locations.

Parents and caregivers should also take the time to discuss and practice emergency plans with children in the event of a fire. Additionally, around the home, it is important to ensure electronic appliances, machines, and heating units are plugged in and operated properly. With responsible use of fire indoors and outdoors—from safely disposing of matches and cigarettes to increased attention when cooking on grills or building a campfire—we can avoid untold numbers of emergencies, injuries, and lives lost to fire and its consequences.

Fire Prevention Week also calls our attention to the lifesaving work our firefighters perform in communities across America. These courageous professionals are the first ones on the scene during an emergency, fearlessly charging up smoke-filled staircases as people rush down them. Some have paid the ultimate sacrifice in the line of duty. Our Nation is profoundly grateful for the dedication and tireless efforts of our firefighters and first responders in their selfless service to our communities.

I encourage all Americans to take preventative measures during Fire Prevention Week to protect themselves, their families, and their communities from the hazards of fire and to express gratitude to our firefighters and first responders. Together, we can ensure the resilience and safety of our neighborhoods, and aid the brave men and women who risk their lives every day to protect us.

NOW, THEREFORE, I, BARACK OBAMA, President of the United States of America, by virtue of the authority vested in me by the Constitution and the laws of the United States, do hereby proclaim October 3 through October 9, 2010, as Fire Prevention Week. On Sunday, October 3, 2010, in accordance with Public Law 107-51, the flag of the United States will be flown at half-staff on all Federal office buildings in honor of the National Fallen Firefighters Memorial Service. I call on all Americans to participate in this observance with appropriate programs and activities and by renewing their efforts to prevent fires and their tragic consequences.

IN WITNESS WHEREOF, I have hereunto set my hand this first day of October, in the year of our Lord two thousand ten, and of the Independence of the United States of America the two hundred and thirty-fifth.

[FR Doc. 2010-25577

Filed 10-7-10; 8:45 am]

Billing code 3195-W1-P